DEPARTMENT OF VETERANS AFFAIRS

Advisory Committee on Cemeteries and Memorials; Notice of Meeting

The Department of Veterans Affairs (VA) gives notice under Public Law 92-463 (Federal Advisory Committee Act) that a meeting of the Advisory Committee on Cemeteries and Memorials will be held on May 5-6, 2009, at the El Paso Marriott, 1600 Airway Boulevard, El Paso, Texas. On May 5, the meeting will begin at 8 a.m. and end at 3:45 p.m. and on May 6, the meeting will begin at 8:30 a.m. and end at 4 p.m. The meeting is open to the public.

The purpose of the Committee is to advise the Secretary of Veterans Affairs on the administration of national cemeteries, soldiers' lots and plots, the selection of new national cemetery sites, the erection of appropriate memorials, and the adequacy of Federal burial benefits.

On May 5, the Committee will receive updates on National Cemetery Administration issues. On May 6, the Committee will tour Fort Bliss National Cemetery, located at 5200 Fred Wilson Boulevard, El Paso, Texas, and then reconvene at the hotel for a business session in the afternoon. The May 6 session will include discussions of Committee recommendations, future meeting sites, and potential agenda topics at future meetings.

Time will not be allocated for receiving oral presentations from the public.

Any member of the public wishing to attend the meeting should contact Mr. Michael Nacincik, Designated Federal Officer, at (202) 461-6240. The Committee will accept written comments. Comments may be transmitted electronically to the Committee at Michael.n@va.gov, or mailed to the National Cemetery Administration (41C2), 810 Vermont Avenue, NW., Washington, DC 20420. In the public's communications with the Committee, the writers must identify themselves and state the organizations, associations, or persons they represent.

Dated: March 27, 2009.
By Direction of the Secretary.
E. Philip Riggin,
Committee Management Officer.

[FR Doc. E9-7455 Filed 4-1-09; 8:45 am]

BILLING CODE 8320-01-P